FEDERAL COMMUNICATIONS COMMISSION

Public Information Collections Approved by Office of Management and Budget

July 20, 2004.

SUMMARY: The Federal Communications Commission (FCC) has received Office of Management and Budget (OMB) approval for the following public information collections pursuant to the Paperwork Reduction Act of 1995, Public Law 104-13. An agency may not conduct or sponsor and a person is not required to respond to a collection of information unless it displays a currently valid control number.

FOR FURTHER INFORMATION CONTACT: Arthur Lechtman, Federal Communications Commission, 445 12th Street, SW., Washington, DC 20554, (202) 418-1465 or via the Internet at Arthur.Lechtman@fcc.gov.

SUPPLEMENTARY INFORMATION: OMB Control No.: 3060-1059.

OMB Approval Date: 3/2/2004.

Expiration Date: 3/31/2007.

Title: Revision of the Commission's Rules to Ensure Compatibility with Enhanced 911 Emergency Calling Systems; Amendment of Parts 2 and 25 to Implement the Global Mobile Personal Communications by Satellite (GMPCS) Memorandum of Understanding and Arrangements; Petition of the National Telecommunications and Information Administration to Amend Part 25 of the Commission's Rules to Establish Emissions Limits for Mobile and Portable Earth Stations Operating in the 1610-1660.5 MHz Band.

Form No.: N/A.

Estimated Annual burden: 25 respondents; 75 total annual burden hours; 1-2 hours per respondent.

Needs and Uses: The Commission proposes that Mobile Satellite Service (MSS) carriers subject to the emergency call center requirement (47 CFR 25.284) prepare and submit a report on their plans for implementing call centers no later than three months prior to the call center's effective date (i.e., 12 months after Federal Register publication of Revision of the Commission's Rules to Ensure Compatibility With Enhanced 911 Emergency Calling Systems, CC Docket No. 94-102, Amendment of Parts 2 and 25 to Implement the Global Mobile Personal Communications by Satellite (GMPCS) Memorandum of Understanding and Arrangements; Petition of the National Telecommunications and Information Administration to Amend Part 25 of the Commission's Rules to Establish Emissions Limits for Mobile and Portable Earth Stations Operating in the 1610-1660.5 MHz Band, IB Docket No. 99-67, Report and Order and Second Further Notice of Proposed Rulemaking, FCC 03-290 (rel. Dec. 1, 2003)). These advance reports would assist Commission efforts to monitor call center development and provide the public with valuable information about MSS emergency services. In addition, the Commission proposes recordkeeping and reporting requirements that MSS carriers would be subject to after the call center rule's effective date. The Commission proposed that MSS carriers record data on the number of calls that their emergency call centers receive, the number of calls that require forwarding to a Public Safety Answering Point (PSAP), and the success rate in handing off calls to the proper PSAP. Furthermore, the Commission is seeking comment on whether MSS carriers should record and store this information themselves, subject to Commission inspection at any time, or whether MSS carriers should file the information in the form of a report once a year. The collection of call data would allow the Commission to monitor compliance with the call center requirement and track usage trends. The Commission also seeks comment on sunset provisions for any recordkeeping or reporting requirements.

Federal Communications Commission.
William F. Caton,
Deputy Secretary.

[FR Doc. 04-17239 Filed 7-28-04; 8:45 am]

BILLING CODE 6712-01-P